DEPARTMENT OF ENERGY

Federal Energy Regulatory Commission

[Docket No. RP00-260-000]

Texas Gas Transmission Corporation; Notice of Settlement Conference

April 6, 2001.

Take notice that an informal settlement conference will be convened in this proceeding commencing at 10:00 am on Wednesday, April 18, 2001, at the offices of the Federal Energy Regulatory Commission, 888 First Street, NE., Washington, DC 20426, for the purpose of discussing the possible settlement of the above-referenced docket.

Any party, as defined by 18 CFR 385.102(c), or any participant as defined by 19 CFR 385.102(b), is invited to attend. Persons wishing to become a party must move to intervene and receive intervenor status pursuant to the Commission's regulations (18 CFR 385.214).

For additional information, contact William J. Collins at (202) 208-0248 or Michael D. Cotleur at (202) 208-1076.

Linwood A. Watson, Jr.,
Acting Secretary.

[FR Doc. 01-9031 Filed 4-11-01; 8:45 am]

BILLING CODE 6717-01-M